NATIONAL AERONAUTICS AND SPACE ADMINISTRATION

[Notice (18-051)]

Notice of Intent To Grant Partially Exclusive License

AGENCY: National Aeronautics and Space Administration.

ACTION: Notice of intent to grant partially exclusive license.

SUMMARY: NASA hereby gives notice of its intent to grant a partially exclusive patent license in the United States to practice the invention described and claimed in U.S. Patent Application entitled, “Liquid-Filled Frequency-Tunable Vibration Damper”, NASA Case Number MFS-33613-1, to Thornton Tomasetti, Inc. having its principal place of business in New York, NY. The field of use may be limited to all commercial applications where a ducted fluid absorber can be utilized in buildings 300 feet and taller. The patent rights in this invention, a new type of vibration mitigation, have been assigned to the United States of America as represented by the Administrator of the National Aeronautics and Space Administration. NASA has not yet made a determination to grant the requested license and may deny the requested license even if no objections are submitted within the comment period.

DATES: The prospective partially exclusive license may be granted unless NASA receives written objections, including evidence and argument no later than July 5, 2018 that establish that the grant of the license would not be consistent with the requirements regarding the licensing of federally owned inventions as set forth in the Bayh-Dole Act and implementing regulations. Competing applications completed and received by NASA no later than July 5, 2018 will also be treated as objections to the grant of the contemplated partially exclusive license. Objections submitted in response to this notice will not be made available to the public for inspection and, to the extent permitted by law, will not be released under the Freedom of Information Act.

Objections submitted in response to this notice will not be made available to the public for inspection and, to the extent permitted by law, will not be released under the Freedom of Information Act.

ADDRESSES: Objections relating to the prospective license may be submitted to James J. McGroary, Chief Patent Counsel/LS01, NASA Marshall Space Flight Center, Huntsville, AL 35812, (256) 544-0013. Email james.j.mcgroary@nasa.gov.

FOR FURTHER INFORMATION CONTACT: Sammy A. Nabors, Technology Transfer Branch/ST22, NASA Marshall Space Flight Center, Huntsville, AL 35812, (256) 544-5226. Email sammy.nabors@nasa.gov.

SUPPLEMENTARY INFORMATION: This notice of intent to grant a partially exclusive patent license is issued in accordance with 35 U.S.C. 209(e) and 37 CFR 404.7(a)(1)(i). The patent rights in these inventions have been assigned to the United States of America as represented by the Administrator of the National Aeronautics and Space Administration. The prospective exclusive license will comply with the requirements of 35 U.S.C. 209 and 37 CFR. 404.7.

Information about other NASA inventions available for licensing can be found online at http://technology.nasa.gov.

Mark Dvorscak,
Agency Counsel for Intellectual Property.

[FR Doc. 2018-13097 Filed 6-18-18; 8:45 am]

BILLING CODE 7510-13-P